DEPARTMENT OF THE TREASURY

Financial Crimes Enforcement Network; Proposed Collection; Comment Request; Report of International Transportation of Currency or Monetary Instruments—Accompanied by an Individual, FinCEN Form 105 (CMIR Form 105), and Report of International Transportation of Currency or Monetary Instruments—Shipment, Mailing, or Receipt, FinCEN Form 106 (CMIR Form 106)

AGENCY: Financial Crimes Enforcement Network (“FinCEN”), Treasury.

ACTION: Notice and request for comments.

SUMMARY: As part of its continuing effort to reduce paperwork and respondent burden, FinCEN invites comment on a proposed information collection contained in the Report of International Transportation of Currency or Monetary Instruments (“CMIR”), which is being separated into two forms, as explained below. As a result of this change, individuals who accompany the transportation of more than $10,000 in currency or other monetary instruments into or from the United States will use the Report of International Transportation of Currency or Monetary Instruments—Accompanied by an Individual (revised FinCEN Form 105). Persons that mail, ship, or receive more than $10,000 in currency or other monetary instruments into or from the United States will use the Report of International Transportation of Currency or Monetary Instruments—Shipment, Mailing, or Receipt (new FinCEN Form 106). This request for comments is being made pursuant to the Paperwork Reduction Act of 1995, Public Law 104-13, 44 U.S.C. 3506(c)(2)(A).

DATES: Written comments are welcome and must be received on or before June 8, 2004.

ADDRESSES: Written comments should be submitted to: Office of Chief Counsel, Financial Crimes Enforcement Network, Department of the Treasury, P.O. Box 39, Vienna, Virginia 22183, Attention: PRA Comments—CMIR-Forms 105 and 106. Comments also may be submitted by electronic mail to the following Internet address: regcomments@fincen.treas.gov, again with a caption, in the body of the text, “Attention: PRA Comments—CMIR-Forms 105 and 106.”

Inspection of comments. Comments may be inspected, between 10 a.m. and 4 p.m., in the FinCEN reading room in Washington, DC. Persons wishing to inspect the comments submitted must request an appointment by telephoning (202) 354-6400.

FOR FURTHER INFORMATION CONTACT: Daniel Haley, Regulatory Compliance Program Specialist, Office of Regulatory Programs, FinCEN, at (202) 354-6400, and Cynthia Clark, Office of Chief Counsel, FinCEN, at (703) 905-3590.

SUPPLEMENTARY INFORMATION: Title: Report of International Transportation of Currency or Monetary Instruments—Accompanied by an Individual, and Report of International Transportation of Currency or Monetary Instruments—Shipment, Mailing, or Receipt.

OMB Number: 1506-0014—FinCEN Form 105 (an OMB number for FinCEN Form 106 has not yet been assigned).

Form Number: FinCEN Form 105 and FinCEN Form 106 respectively.

Abstract: The statute generally referred to as the “Bank Secrecy Act,” Titles I and II of Public Law 91-508, as amended, codified at 12 U.S.C. 1829b, 12 U.S.C. 1951-1959, and 31 U.S.C. 5311-5332, authorizes the Secretary of the Treasury, inter alia, to issue regulations requiring records and reports that are determined to have a high degree of usefulness in criminal, tax, and regulatory matters, or in the conduct of intelligence or counter-intelligence activities, to protect against international terrorism. Regulations implementing Title II of the Bank Secrecy Act (codified at 31 U.S.C. 5311-5332) appear at 31 CFR part 103. The authority of the Secretary to administer the Bank Secrecy Act has been delegated to the Director of FinCEN.

The Bank Secrecy Act specifically states that “a person or an agent or bailee of the person shall file a report * * * when the person, agent, or bailee knowingly—(1) transports, is about to transport, or has transported, monetary instruments of more than $10,000 at one time—(A) from a place in the United States to or through a place outside the United States; or (B) to a place in the United States from or through a place outside the United States; or (2) receives monetary instruments of more than $10,000 at one time transported into the United States from or through a place outside the United States.” 31 U.S.C. 5316(a). The requirement of 31 U.S.C. 5316(a) has been implemented through regulations promulgated at 31 CFR 103.23 and through the instructions to the CMIR.

Information collected on the CMIR is made available, in accordance with strict safeguards, to appropriate law enforcement and regulatory personnel in the official performance of their duties. The information collected is of use in investigations involving international and domestic money laundering, tax evasion, fraud, and other financial crimes.

Current Actions: The current CMIR is being separated into two forms—revised FinCEN Form 105 for currency and other monetary instruments accompanied by an individual, and new FinCEN Form 106 for currency and other monetary instruments that are shipped, mailed, or received. FinCEN believes that the use of separate forms will make it easier for individuals departing or entering the United States to complete the CMIR.

In addition, minor changes are made to the information that is collected on the CMIR. FinCEN Form 105 includes new items for the individual's occupation and telephone number and the reason for transporting the currency or monetary instruments. Similarly, FinCEN Form 106 includes new items asking for the telephone number of the sender and the reason for the shipment. Both forms include an item about the recipient of the currency or monetary instruments and revise the section about the currency or monetary instruments to provide more space and a standardized format for the information. The instructions to both forms provide more detailed guidance on how to fill out the form.

The draft FinCEN Form 105 and FinCEN Form 106 are presented only for purposes of soliciting public comment. These draft forms should not be used at this time to report the transportation of currency or other monetary instruments. A final version of each form will be made available at a later date. Until that time, the current version of FinCEN Form 105 should continue to be used by all persons required to file a CMIR whether or not they accompany the transportation of the currency or monetary instruments.

Type of Review: Revision of currently approved collection into two separate reports.

Affected public: Individuals, business or other for-profit institutions, and not-for-profit institutions.

Frequency: As required.

Estimated Burden: Reporting average of 15 minutes per response for each form.

Estimated number of respondents: 165,000 for FinCEN Form 105.

Estimated number of respondents: 15,000 for FinCEN Form 106.

Estimated Total Annual Burden Hours: 41,250 hours for FinCEN Form 105.

Estimated Total Annual Burden Hours: 3,750 hours for FinCEN Form 106.

An agency may not conduct or sponsor, and a person is not required to respond to, a collection of information unless the collection of information displays a valid OMB control number. Records required to be retained under the Bank Secrecy Act must be retained for five years. Generally, information collected pursuant to the Bank Secrecy Act is confidential, but may be shared as provided by law with regulatory and law enforcement authorities.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Dated: March 31, 2004.
William J. Fox,
Director, Financial Crimes Enforcement Network.

Attachments: Report of International Transportation of Currency or Monetary Instruments “ Accompanied by an Individual, FinCEN Form 105 (CMIR-Form 105) and Report of International Transportation of Currency or Monetary Instruments—Shipment, Mailing, or Receipt, FinCEN Form 106 (CMIR-Form 106).

BILLING CODE 4810-02-P

[FR Doc. 04-8028 Filed 4-8-04; 8:45 am]

BILLING CODE 4810-02-C